DEPARTMENT OF TRANSPORTATION

Federal Aviation Administration

14 CFR Part 39

[Docket No. FAA-2023-1719; Project Identifier 2008-NM-202-AD; Amendment 39-22621; AD 2010-26-05R1]

RIN 2120-AA64

Airworthiness Directives; Dassault Aviation Airplanes

AGENCY: Federal Aviation Administration (FAA), DOT.

ACTION: Final rule; removal.

SUMMARY: The FAA is removing Airworthiness Directive (AD) 2010-26-05, which applied to certain Dassault Aviation Model Falcon 10 airplanes; Model FAN JET FALCON, FAN JET FALCON SERIES C, D, E, F, and G airplanes; Model MYSTERE-FALCON 20-C5, 20-D5, 20-E5, and 20-F5 airplanes; and all Model MYSTERE-FALCON 200 airplanes; Model FALCON 2000 and FALCON 2000EX airplanes; Model MYSTERE-FALCON 50 and MYSTERE-FALCON 900 airplanes; and Model FALCON 900EX airplanes. AD 2010-26-05 required repetitive inspections for overpressure tightness on the pressurization control regulating valves and, if necessary, replacing the affected valve with a serviceable unit. The FAA issued AD 2010-26-05 to address failure of the pressurization control regulating valve (overpressure capsule), which will affect the aircraft's overpressure protection. Since the FAA issued AD 2010-26-05, the FAA issued ADs 2021-04-20, 2020-02-13, 2020-03-24, 2020-03-19, 2020-01-13, 2023-05-15, 2023-04-10, 2023-02-13, 2023-04-18, and 2023-04-13 to address the unsafe condition. Therefore, the FAA has determined that AD 2010-26-05 is no longer necessary. Accordingly, AD 2010-26-05 is removed.

DATES: This AD becomes effective December 6, 2023.

ADDRESSES:

AD Docket: You may examine the AD docket at regulations.gov under Docket No. FAA-2023-1719; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Tom Rodriguez, Aviation Safety Engineer, FAA, 1600 Stewart Avenue, Suite 410, Westbury, NY 11590; telephone: 206-231-3226; email: tom.rodriguez@faa.gov.

SUPPLEMENTARY INFORMATION:

Background

The FAA issued a notice of proposed rulemaking (NPRM) to amend 14 CFR part 39 by removing AD 2010-26-05, Amendment 39-16544 (75 FR 79952, December 21, 2010) (AD 2010-26-05). The NPRM was published in the Federal Register on August 29, 2023 (88 FR 59471). AD 2010-26-05 applied to certain Dassault Aviation Model Falcon 10 airplanes; Model FAN JET FALCON, FAN JET FALCON SERIES C, D, E, F, and G airplanes; Model MYSTERE-FALCON 20-C5, 20-D5, 20-E5, and 20-F5 airplanes; and all Model FALCON 2000 and FALCON 2000EX airplanes; Model MYSTERE-FALCON 200 airplanes; Model MYSTERE-FALCON 50 and MYSTERE-FALCON 900 airplanes, and Model FALCON 900EX airplanes. AD 2010-26-05 was prompted by AD 2008-0072, dated April 18, 2008, issued by the European Union Aviation Safety Agency (EASA), which is the Technical Agent for the Member States of the European Union (EASA AD 2008-0072) (also referred to as the MCAI). The NPRM was prompted by a determination that AD 2010-26-05 is no longer necessary, because the actions specified in the MCAI have been included in the airworthiness limitations section of the existing maintenance manual. EASA issued AD 2008-0072-CN, dated October 5, 2020, which cancels EASA AD 2008-0072. Additionally, the FAA has issued the following ADs to address the unsafe condition by revising the existing maintenance or inspection program, as applicable, to incorporate new or more restrictive maintenance requirements and airworthiness limitations, including the actions specified in AD 2010-26-05.

• AD 2021-04-20, Amendment 39-21442 (86 FR 12802, March 5, 2021), which addresses the unsafe condition for Model Falcon 10 airplanes.

• AD 2020-02-13, Amendment 39-19827 (85 FR 6744, February 6, 2020), which addresses the unsafe condition for Model FAN JET FALCON, FAN JET FALCON SERIES C, D, E, F, and G airplanes on which the supplemental structural inspection program (SSIP) has been incorporated into the airplane's maintenance program.

• AD 2020-03-24, Amendment 39-19848 (85 FR 11289, February 27, 2020), which addresses the unsafe condition for Model MYSTERE-FALCON 20-C5, 20-D5, 20-E5, and 20-F5 airplanes on which the SSIP (Dassault Service Bulletin 730) has been embodied into the airplane's existing maintenance or inspection program.

• AD 2020-03-19, Amendment 39-19843 (85 FR 11280, February 27, 2020), which address the unsafe condition for Model MYSTERE-FALCON 20-C5, 20-D5, 20-E5, and 20-F5 airplanes, except those on which the SSIP (Dassault Service Bulletin 730) has been embodied into the airplane's existing maintenance or inspection program.

• AD 2020-01-13, Amendment 39-19819 (85 FR 5313, January 30, 2020), which addresses the unsafe condition for Model MYSTERE-FALCON 200 airplanes.

• AD 2023-05-15, Amendment 39-22384 (88 FR 22374, April 13, 2023), which addresses the unsafe condition for Model MYSTERE-FALCON 50 airplanes.

• AD 2023-04-10, Amendment 39-22357 (88 FR 20743, April 7, 2023), which addresses the unsafe condition for Model MYSTERE-FALCON 900 airplanes.

• AD 2023-02-13, Amendment 39-22320 (88 FR 8740, February 10, 2023), which addresses the unsafe condition for Model FALCON 900EX airplanes.

• AD 2023-04-18, Amendment 39-22365 (88 FR 15607, March 14, 2023), which addresses the unsafe condition for Model FALCON 2000 airplanes.

• AD 2023-04-13, Amendment 39-22360 (88 FR 20741, April 7, 2023), which addresses the unsafe condition for Model FALCON 2000EX airplanes.

The NPRM proposed to remove AD 2010-26-05. The FAA is issuing this AD to remove AD 2010-26-05.

Discussion of Final Airworthiness Directive

Comments

The FAA received no comments on the NPRM or on the determination of the cost to the public.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than 30 days, upon a finding of good cause. Since the FAA issued AD 2010-26-05, the actions specified in the MCAI have been included in the airworthiness limitations section of the existing maintenance manual, and the FAA has issued ADs to require the incorporation of those airworthiness limitations. Therefore, the FAA is issuing this AD to remove AD 2010-26-05, and the FAA did not receive any adverse comments or useful information about this AD from U.S. operators that necessitates waiting 30 days for relief from this requirement. Accordingly, the FAA finds that good cause exists pursuant to 5 U.S.C. 553(d) for making this amendment effective in less than 30 days.

Conclusion

The FAA reviewed the relevant data and determined that air safety requires adopting this AD as proposed. Except for minor editorial changes, this AD is adopted as proposed in the NPRM. None of the changes will increase the economic burden on any operator.

This AD removes all actions of AD 2010-26-05. Therefore, the requirements of AD 2010-26-05 are terminated.

Related Costs of Compliance

This AD adds no costs. This AD removes AD 2010-26-05 from 14 CFR part 39; therefore, operators are no longer required to show compliance with that AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil

aircraft in air commerce by prescribing regulations for practices, methods, and procedures the Administrator finds necessary for safety in air commerce. This regulation is within the scope of that authority.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2010-26-05, Amendment 39-16544 (75 FR 79952, December 21, 2010), and

b. Adding the following new AD:

2010-26-05R1 Dassault Aviation: Amendment 39-22621; Docket No. FAA-2023-1719; Project Identifier AD-2008-NM-202-AD.

(a) Effective Date

This AD is effective December 6, 2023.

(b) Affected AD

This AD replaces AD 2010-26-05, Amendment 39-16544 (75 FR 79952, December 21, 2010) (AD 2010-26-05).

(c) Applicability

This action applies to the airplanes identified in paragraphs (c)(1) and (2) of this AD, certificated in any category.

(1) Dassault Aviation Model Falcon 10 airplanes; Model FAN JET FALCON, FAN JET FALCON SERIES C, D, E, F, and G airplanes; and Model MYSTERE-FALCON 20-C5, 20-D5, 20-E5, and 20-F5 airplanes; all serial numbers, equipped with Liebherr or ABG-Semca pressurization outflow valves.

(2) Dassault Aviation Model MYSTERE-FALCON 200 airplanes, Model MYSTERE-FALCON 50 and MYSTERE-FALCON 900 airplanes, and FALCON 900EX airplanes; and Model FALCON 2000 and FALCON 2000EX airplanes; all serial numbers.

(d) Subject

Air Transport Association (ATA) of America Code 21, Air conditioning.

(e) Terminating Action

This AD terminates all requirements of AD 2010-26-05.

(f) Related Information

For more information about this AD, contact Tom Rodriguez, Aviation Safety Engineer, FAA, 1600 Stewart Avenue, Suite 410, Westbury, NY 11590; telephone: 206-231-3226; email: tom.rodriguez@faa.gov.

(g) Material Incorporated by Reference

None.

Issued on November 29, 2023.
Victor Wicklund,
Deputy Director, Compliance & Airworthiness Division, Aircraft Certification Service.

[FR Doc. 2023-26662 Filed 12-5-23; 8:45 am]

BILLING CODE 4910-13-P